DEPARTMENT OF ENERGY

Federal Energy Regulatory Commission

[Docket No. RP03-197-000]

Northern Natural Gas Company; Notice of Proposed Changes in FERC Gas Tarrif

December 13, 2002.

Take notice that on December 11, 2002, Northern Natural Gas Company (Northern) tendered for filing to become part of its FERC Gas Tariff, Fifth Revised Volume No. 1, Fourth Revised Sheet No. 299A, to be effective on January 11, 2003.

Northern is hereby revising Section 52 (Right of First Refusal) of the General Terms and Conditions of its FERC Gas Tariff to eliminate references to a 5-year term matching cap consistent with the Commission's Order issued in Docket No. RM98-10-011 on October 31, 2002.

Northern further states that copies of the filing have been mailed to each of its customers and interested State Commissions.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For Assistance, please contact FERC Online Support at FERCOnlineSupport@ferc.gov or toll-free at (866) 208-3676, or TTY, contact (202) 502-8659. Comments, protests and interventions may be filed electronically via the Internet in lieu of paper. The Commission strongly encourages electronic filings. See18 CFR 385.2001(a)(1)(iii) and the instructions on the Commission's web site under the “e-Filing” link.

Linwood A. Watson, Jr.,
Deputy Secretary.

[FR Doc. 02-32027 Filed 12-18-02; 8:45 am]

BILLING CODE 6717-01-P